DEPARTMENT OF TRANSPORTATION

Federal Aviation Administration

Notice of Intent To Rule on Application 03-01-C-00-TVF To Impose and Use the Revenue From a Passenger Facility Charge (PFC) at Thief River Falls Regional Airport, Thief River Falls, MN

AGENCY: Federal Aviation Administration (FAA), DOT.

ACTION: Notice of intent to rule on application.

SUMMARY: The FAA proposes to rule and invites public comment on the application to impose and use the revenue from a PFC at Thief River Falls Regional Airport under the provisions of the 49 U.S.C. 40117 and part 158 of the Federal Aviation Regulations (14 CFR part 158).

DATES: Comments must be received on or before January 6, 2003.

ADDRESSES: Comments on this application may be mailed or delivered in triplicate to the FAA at the following address: Federal Aviation Administration, Minneapolis Airports District Office, 6020 28th Avenue South, Room 102, Minneapolis, Minnesota 55450-2706.

In addition, one copy of any comments submitted to the FAA must be mailed or delivered to Mr. Roger DeLap, City Administrator of the City of Thief River Falls, MN at the following address: Thief River Falls City Hall, 405 Third Street East, P.O. Box 528, Thief River Falls, Minnesota 56701.

Air carriers and foreign air carriers may submit copies of written comments previously provided to the City of Thief River Falls under section 158.23 of part 158.

FOR FURTHER INFORMATION CONTACT: Mr. Gordon Nelson, Program Manager, Federal Aviation Administration, Airports District Office, 6020 28th Avenue South, Room 102, Minneapolis, Minnesota 55450-2706, telephone (612) 713-4358. The application may be reviewed in person at this same location.

SUPPLEMENTARY INFORMATION: The FAA proposes to rule and invites public comment on the application to impose and use the revenue from a PFC at Thief River Falls Regional Airport under the provisions of the 49 U.S.C. 40117 and part 158 of the Federal Aviation Regulations (14 CFR part 158). On November 12, 2002, the FAA determined that the application to impose and use the revenue from a PFC submitted by the City of Thief River Falls, Minnesota was substantially complete within the requirements of section 158.25 of part 158. The FAA will approve or disapprove the application, in whole or in part, no later than February 28, 2003.

The following is a brief overview of the application.

Level of the proposed PFC: $4.50.

Proposed charge effective date: June 1 2003.

Proposed charge expiration date: June 1, 2023.

Total estimated PFC revenue: $636,828

Brief description of proposed projects: Rehabilitate runway 13/31; install airport signs and miscellaneous taxiway lights; overlay parallel taxiway (for runway 13/31), general aviation taxiway, and air transport apron; acquire aircraft rescue and firefighting vehicle (ARFF); reconstruct commercial aircraft parking apron; construct crosswind runway 3/21 including land acquisition, installation of medium intensity runway edge lights (MIRL), runway end identification lights (REIL), and precision approach path indicator system (PAPI); construct parallel and connecting taxiways (for runway 3/21); prepare passenger facility charge application (PFC); rehabilitate portions of the air carrier parking apron; install deer fence; and rehabilitate non-revenue automobile parking lot.

Class or classes of air carriers which the public agency has requested not be required to collect PFCs: Non-Scheduled/On Demand Air Carriers.

Any person may inspect the application in person at the FAA office listed above under FOR FURTHER INFORMATION CONTACT.

In addition, any person may, upon request, inspect the application, notice and other documents germane to the application in person at the Thief River Falls City Hall.

Issued in Des Plaines, Illinois on November 21, 2002.
Mark McClardy,
Manager, Airports Planning/Programming Branch, Airports Division, Great Lakes Region.

[FR Doc. 02-30847 Filed 12-4-02; 8:45 am]

BILLING CODE 4910-13-M